DEPARTMENT OF TRANSPORTATION

Surface Transportation Board

[STB Finance Docket No. 34273]

Indiana Northeastern Railroad Company—Change in Operators Exemption—Branch and St. Joseph Counties Rail Users Association, Inc.

Indiana Northeastern Railroad Company (INR), a Class III rail carrier, and the Branch and St. Joseph Counties Rail Users Association, Inc. (RUA) have jointly filed a notice of exemption under 49 CFR 1150.41 for INR to operate over approximately 24.34 miles of rail line owned by the RUA, from milepost 382.5 near Coldwater, MI, to milepost 406.84 near Sturgis, MI, in Branch and St. Joseph Counties, MI.¹

¹ INR currently operates over that portion of RUA's rail line that runs from milepost 376.56, east of Quincy, MI, to milepost 386.96, west of Coldwater, in Branch County, MI. Michigan Southern Railroad Company, Inc., Michigan Southern Railroad Company f/k/a The Wabash & Western Railroad Company (collectively, Michigan Southern), currently operates over RUA's line from Coldwater to Sturgis, which is the portion of the line involved in the instant transaction. Michigan Southern and INR currently jointly operate that portion of RUA's line between milepost 382.5 (Coldwater) and milepost 386.96. See The Indiana Northeastern Railroad Company—Operation Exemption—Branch and St. Joseph Counties Rail Users Association, Inc., in Branch County, MI, STB Finance Docket No. 33760 (STB served June 30, 1999).

The transaction was expected to be consummated on or shortly after November 1, 2002, the effective date of the exemption (7 days after the notice was filed).²

² The notice indicates that an agreement has been reached between INR, RUA and Michigan Southern, for Michigan Southern's operating rights to be transferred to INR upon the effective date of this notice. Thus, after this transaction, INR will be the sole operator over RUA's line from milepost 376.56 (Quincy) to milepost 406.84 (Sturgis). INR and RUA state that all shippers on the line have been notified of the change in operators, and that a copy of this verified notice of exemption was sent to Michigan Southern.

If the notice contains false or misleading information, the exemption is void ab initio. Petitions to revoke the exemption under 49 U.S.C. 10502(d) may be filed at any time. The filing of a petition to revoke does not automatically stay the transaction.

An original and 10 copies of all pleadings, referring to STB Finance Docket No. 34273, must be filed with the Surface Transportation Board, 1925 K Street NW., Washington, DC 20423-0001. In addition, one copy of each pleading must be served on Carl M. Miller, 618 Professional Park Drive, PO Box 332, New Haven, IN 46774 [Attorney for INR], and Charles R. Bappert, Biringer, Hutchinson, Lillis & Bappert, P.C., 100 West Chicago Street, Coldwater, MI 49036-1897 [Attorney for RUA].

Board decisions and notices are available on our Web site at http://www.stb.dot.gov.

Decided: November 12, 2002.
By the Board, David M. Konschnik, Director, Office of Proceedings.
Vernon A. Williams,
Secretary.

[FR Doc. 02-29328 Filed 11-20-02; 8:45 am]

BILLING CODE 4915-00-P